DEPARTMENT OF THE INTERIOR

Bureau of Ocean Energy Management

[Docket No. BOEM-2024-0054]

Notice of Availability of a Final Programmatic Environmental Impact Statement for Expected Wind Energy Development in the New York Bight

AGENCY: Bureau of Ocean Energy Management, Interior.

ACTION: Notice of availability; final programmatic environmental impact statement.

SUMMARY: The Bureau of Ocean Energy Management (BOEM) announces the availability of the final programmatic environmental impact statement (PEIS) to analyze the potential impacts of wind energy development in six lease areas of the New York (NY) Bight. The Proposed Action for the final PEIS is the identification of specific measures at the programmatic stage that could avoid, minimize, mitigate, or monitor potential impacts. The final PEIS will inform BOEM's decision about whether to identify certain avoidance, minimization, mitigation, and monitoring (AMMM) measures at this stage that could potentially be required as conditions of approval for activities proposed by NY Bight lessees in their construction and operations plans (COPs) or defer the identification of such measures to each project-specific environmental review.

ADDRESSES: The final PEIS can be found on the NY Bight website at: https://www.boem.gov/renewable-energy/state-activities/new-york-bight.

FOR FURTHER INFORMATION CONTACT: Jill Lewandowski, BOEM Office of Environmental Programs, 45600 Woodland Road, VAM-OEP, Sterling, Virginia 20166, (703) 787-1703 or jill.lewandowski@boem.gov.

SUPPLEMENTARY INFORMATION:

Proposed Action: The final PEIS analyzes the development of both one and six representative projects, including associated export cables, within a range of design parameters informed by lessees, for the NY Bight and considers the potential environmental impacts of that development. The Proposed Action for the PEIS is the identification of measures at the programmatic stage that could avoid, minimize, mitigate, and monitor impacts. BOEM may require some or all of these measures as conditions of approval for activities proposed by lessees in COPs submitted for the six NY Bight lease areas. BOEM may require additional or different measures based on subsequent, project-specific environmental analyses. These AMMM measures are considered programmatic insofar as they may be applied to COPs for the six NY Bight lease areas, not because they necessarily will apply to COPs under BOEM's renewable energy program outside of the NY Bight area. The PEIS analyzes the potential impacts of development in the NY Bight area and how those impacts can be avoided, minimized, or mitigated by AMMM measures. The alternatives analyzed do not involve any final actions by BOEM or lessees.

Alternatives: BOEM considered 19 alternatives when preparing the draft PEIS and carried forward three alternatives for further analysis in the final PEIS. These three alternatives include two action alternatives and the no action alternative. Sixteen alternatives were rejected because they did not meet the purpose and need for the proposed action or did not meet screening criteria, which are presented in Chapter 2 of the final PEIS. The screening criteria included consistency with law and regulations, technical and economic feasibility, environmental impact, and geographic considerations.

Availability of the Final PEIS: The final PEIS and associated information are available on the New York Bight website at: https://www.boem.gov/renewable-energy/state-activities/new-york-bight. BOEM has distributed digital copies of the final PEIS to all parties listed in Appendix N of the final PEIS. If you need a flash drive or paper copy, BOEM will provide one upon request as long as copies are available. You may request a flash drive or paper copy of the final PEIS by calling (703) 787-1703.

Cooperating Agencies: The following 13 Federal, State, and local agencies participated as cooperating agencies in the preparation of the final PEIS: the Bureau of Safety and Environmental Enforcement; U.S. Environmental Protection Agency; National Marine Fisheries Service; U.S. Army Corps of Engineers; U.S. Coast Guard; U.S. Fish and Wildlife Service; National Park Service; New Jersey Department of Environmental Protection; New Bedford Port Authority; New York State Department of State; New York State Department of Environmental Compliance; New Jersey Board of Public Utilities; and the Massachusetts Office of Coastal Zone Management. The following Tribal Nations participated as Cooperating Tribal Governments in the preparation of the final PEIS: the Stockbridge-Munsee Community Band of Mohican Indians and the Mashantucket (Western) Pequot Tribal Nation. The New York City Mayor's Office of Environmental Coordination served as a participating agency in the preparation of the final PEIS.

Authority: 42 U.S.C. 4321 et seq. (NEPA, as amended), and 40 CFR 1506.6.

Karen Baker,
Chief, Office of Renewable Energy Programs, Bureau of Ocean Energy Management.

[FR Doc. 2024-24862 Filed 10-24-24; 8:45 am]

BILLING CODE 4340-98-P